DEPARTMENT OF THE INTERIOR

Bureau of Land Management

[LLIDI01000-L71220000-PH0000-LVTF80230000; DDG-07-0010]

Notice of Availability of the Final Environmental Impact Statement for the Three Rivers Stone Quarry Expansion

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.) the Bureau of Land Management (BLM), Challis Field Office, announces the availability of the Three Rivers Stone Quarry Expansion Final Environmental Impact Statement (FEIS). The FEIS addresses a proposal submitted by L&W Stone Corporation to amend the existing Plan of Operations to allow for expansion of its existing building stone quarry.

DATES: The FEIS is available for 30 days following publication of the Environmental Protection Agency Notice of Availability (NOA) in the Federal Register. The Record of Decision (ROD) will not be approved by the BLM for at least 30 days following publication of the NOA for the FEIS by the Environmental Protection Agency.

ADDRESSES: Copies of the FEIS are available upon request from the BLM Idaho Falls District Office, 1405 Hollipark Drive, Idaho Falls, Idaho, 83401, phone 208-524-7530. You may request either a paper or an electronic (CD) copy. A copy of the FEIS is also available on the Internet at http://www.blm.gov/id/st/en/fo/challis/nepa/Three_Rivers.html.

FOR FURTHER INFORMATION CONTACT: Charles Horsburgh, Project Manager, BLM Idaho Falls District, 1405 Hollipark Drive, Idaho Falls, Idaho 83401, phone 208-524-7530, or fax 208-524-7505.

SUPPLEMENTARY INFORMATION: L&W Stone Corporation mines locatable flagstone on public lands administered by the BLM's Challis Field Office in Custer County, Idaho. L&W Stone submitted an Amended Plan of Operations for its quarry under the 43 CFR 3809 Regulations in December 2002. The BLM completed an Environmental Assessment (EA) regarding the Amended Plan of Operations, signed a Finding of No Significant Impact (FONSI) in July 2004, and approved the project. As a result of a lawsuit that was filed objecting to that approval, the BLM was ordered by a Federal judge to prepare an EIS for the Amended Plan of Operations.

A Notice of Intent to Prepare the EIS was published in the Federal Register on October 21, 2005, inviting comments on the scope of the EIS, concerns, issues, and proposed alternatives. Public scoping meetings were held during the 45-day public comment period in Challis, Idaho, on November 16, 2005, and in Boise, Idaho, on November 17, 2005.

The Draft EIS was released for public review on December 14, 2007. Public meetings were held during the 45-day public comment period in Boise, Idaho, on January 16, 2008, and in Challis, Idaho, on January 17, 2008. A total of 13 written comments were received during this process. All comments were analyzed and appropriate changes or clarifications were incorporated into the FEIS. The comments and responses are appended to the FEIS.

The BLM will prepare a Record of Decision (ROD) for the proposed project no earlier than 30 days following the publication of the NOA by the Environmental Protection Agency. Public comments will be accepted on the FEIS and will be considered as part of the BLM decision making process. However, the BLM will not formally respond to the comments.

The BLM asks that those submitting comments make them as specific as possible with reference to page numbers and chapters in the FEIS.

Public comments, including the names and mailing addresses of respondents, will be available for public review at the Idaho Falls District Office in Idaho Falls, Idaho, during regular business hours from 7:45 a.m. to 4:30 p.m., Monday through Friday, except holidays. Individual respondents may request confidentiality. Before including your address, phone number, e-mail address, or other personal identifying information in your comments, you should be aware that your entire comment—including your personal identifying information—may be made publicly available at any time. While you may ask us in your comments to withhold your personal identifying information from public review, we cannot guarantee that we will be able to do so. All submissions from organizations and businesses, and from individuals identifying themselves as representatives or officials of organizations or businesses, will be available for public inspection in their entirety.

David Rosenkrance,
BLM Challis Field Manager.

[FR Doc. E9-17677 Filed 7-23-09; 8:45 am]

BILLING CODE 4310-GG-P